DEPARTMENT OF HEALTH AND HUMAN SERVICES

Centers for Disease Control and Prevention

The Advisory Committee to the Director of the National Center for Environmental Health (NCEH) of the Centers for Disease Control and Prevention (CDC); Meeting

In accordance with section 10(a)(2) of the Federal Advisory Committee Act (Pub. L. 92-463), the Centers for Disease Control and Prevention (CDC) announces the following committee meeting:

Name: Advisory Committee to the Director, NCEH.

Times and Dates: 1 p.m.-4:30 p.m., March 21, 2002, 9 a.m.-2 p.m., March 22, 2002.

Place: Sheraton Buckhead Atlanta, 3405 Lenox Road NE, Atlanta, GA 30326 Phone: 404/261-9250

Status: Open to the public for observation and comment, limited only by the space available. The meeting room accommodates approximately 100 people.

Purpose: The Secretary, and by delegation, the Director, Centers for Disease Control and Prevention, are authorized under section 301(42 U.S.C. 241) and section 311(42 U.S.C. 243) of the Public Health Service Act, as amended, to (1) conduct, encourage, cooperate with, and assist other appropriate public authorities, scientific institutions, and scientists in the conduct of research, investigations, experiments, demonstrations, and studies relating to the causes, diagnosis, treatment, control, and prevention of physical and mental diseases, and other impairments; (2) assist States and their political subdivisions in the prevention of infectious diseases and other preventable conditions, and in the promotion of health and well being; and (3) train State and local personnel in health work.

Matters To Be Discussed: Agenda items will include: status reports on the progress of the Birth Defects, Biomonitoring and Genomics workgroups; presentations from NCEH staff regarding current activities focusing on Environmental Health & Homeland Security. Agenda items are tentative and subject to change.

Contact Person for More Information: Michael J. Sage, Designated Federal Official, CDC, 4770 Buford Highway, NE, MS F-29, Atlanta, Georgia 30341-3724; telephone 770-488-7020, fax 770-488-7024; e-mail: mjs6@cdc.gov.

The Director, Management Analysis and Services Office, has been delegated the authority to sign Federal Register notices pertaining to announcements of meetings and other committee management activities for both CDC and the Agency for Toxic Substances and Disease Registry.

Dated: February 22, 2002.
Alvin Hall,
Acting Director, Management Analysis and Services Office, Centers for Disease Control and Prevention.

[FR Doc. 02-4776 Filed 2-27-02; 8:45 am]

BILLING CODE 4163-18-P